NATIONAL AERONAUTICS AND SPACE ADMINISTRATION

[Notice: (24-006)]

Heliophysics Advisory Committee; Meeting

AGENCY: National Aeronautics and Space Administration.

ACTION: Notice of meeting.

SUMMARY: In accordance with the Federal Advisory Committee Act, as amended, the National Aeronautics and Space Administration (NASA) announces a meeting of the Heliophysics Advisory Committee (HPAC). This Committee functions in an advisory capacity to the Director, Heliophysics Division, in the NASA Science Mission Directorate. The meeting will be held for the purpose of soliciting, from the science community and other persons, scientific and technical information relevant to program planning.

DATES: Monday, February 12, 2024, 10 a.m.-5 p.m., eastern time; and Tuesday, February 13, 2024, 9:30 a.m.-5 p.m., eastern time.

ADDRESSES: Meeting will be virtual. See dial-in and Webex information below under SUPPLEMENTARY INFORMATION.

FOR FURTHER INFORMATION CONTACT: Mrs. KarShelia Kinard, Science Mission Directorate, NASA Headquarters, Washington, DC 20546, (202) 358-2355, or karshelia.kinard@nasa.gov.

SUPPLEMENTARY INFORMATION: The meeting will take place telephonically and via WebEx. Any interested person must use a touch-tone phone to participate in this meeting. To join by telephone, the numbers are: 1-929-251-9612 or 1-415-527-5035, for each day.

The WebEx link is https://nasaenterprise.webex.com/nasaenterprise/j.php?MTID=m0b61b2c74c8e576e96639583bb9d89ed and the meeting number is 2762 932 6795. The password is HPACWinter2024! (47229468 from phones and video systems) (case sensitive), on both days.

The agenda for the meeting includes the following topics:

• Heliophysics Division (HPD) News, Updates, and New Initiatives

• Specific HPD Research and Analysis Program, Operating Mission and Mission Planning Topics

It is imperative that the meeting be held on these dates to accommodate the scheduling priorities of the key participants.

Patricia Rausch,
Advisory Committee Management Officer, National Aeronautics and Space Administration.

[FR Doc. 2024-01347 Filed 1-23-24; 8:45 am]

BILLING CODE 7510-13-P